DEPARTMENT OF HOMELAND SECURITY

Federal Emergency Management Agency

44 CFR Part 67

[Docket ID FEMA-2013-0002]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street SW., Washington, DC 20472, (202) 646-4064, or (email) Luis.Rodriguez3@fema.dhs.gov.

SUPPLEMENTARY INFORMATION: The Federal Emergency Management Agency (FEMA) makes the final determinations listed below for the modified BFEs for each community listed. These modified elevations have been published in newspapers of local circulation and ninety (90) days have elapsed since that publication. The Deputy Associate Administrator for Mitigation has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows

Flooding source(s) | Location of referenced elevation | * Elevation in feet (NGVD) + Elevation in feet (NAVD) # Depth in feet above ground ‸ Elevation in meters (MSL) Modified | Communities affected
Webster County, Kentucky, and Incorporated Areas
Docket No.: FEMA-B-1085
Bailey Ditch (Backwater effects from Green River) | From the confluence with Knoblick Creek to approximately 0.93 mile upstream of the confluence with Knoblick Creek | +387 | Unincorporated Areas of Webster County.
Deer Creek (Backwater effects from Green River) | From the confluence with East Fork Deer Creek to approximately 1.5 mile upstream of the confluence with East Fork Deer Creek | +387 | Unincorporated Areas of Webster County.
East Fork Deer Creek Tributary 1 (Backwater effects from Green River) | From the confluence with Deer Creek to approximately 2.7 miles upstream of the confluence with Deer Creek | +387 | Unincorporated Areas of Webster County.
Green River | At approximately 1.5 mile downstream of the confluence with Groves Creek | +386 | City of Sebree, Unincorporated Areas of Webster County.
| At approximately 5.2 miles upstream of the confluence with Deer Creek | +388
Green River Tributary 219 (Backwater effects from Green River) | From the confluence with the Green River to approximately 1.5 mile upstream of the confluence with the Green River | +387 | Unincorporated Areas of Webster County.
Groves Creek (Backwater effects from Green River) | From the confluence with the Green River to approximately 5.9 miles upstream of the confluence with the Green River | +386 | Unincorporated Areas of Webster County.
Knoblick Creek (Backwater effects from Green River) | From the confluence with Deer Creek to approximately 2.8 miles upstream of the confluence with Deer Creek | +387 | Unincorporated Areas of Webster County.
Mock Roy Creek (Backwater effects from Green River) | From the confluence with the Green River to approximately 2.5 miles upstream of the confluence with the Green River | +386 | City of Sebree, Unincorporated Areas of Webster County.
Pitman Creek (Backwater effects from Green River) | Approximately 1,690 feet upstream of KY-370 | +388 | Unincorporated Areas of Webster County.
| At approximately 3.8 miles upstream of the confluence with the Green River | +388
* National Geodetic Vertical Datum.
+ North American Vertical Datum.
# Depth in feet above ground.
‸ Mean Sea Level, rounded to the nearest 0.1 meter.
ADDRESSES
City of Sebree
Maps are available for inspection at 36 South Spring Street, Sebree, KY 42455.
Unincorporated Areas of Webster County
Maps are available for inspection at 35 South US Route 41A, Dixon, KY 42409.

(Catalog of Federal Domestic Assistance No. 97.022, “Flood Insurance.”)

Dated: June 28, 2013.
Roy E. Wright,
Deputy Associate Administrator for Mitigation, Department of Homeland Security, Federal Emergency Management Agency.

[FR Doc. 2013-17458 Filed 7-19-13; 8:45 am]

BILLING CODE 9110-12-P